DEPARTMENT OF TRANSPORTATION

Coast Guard

33 CFR Part 165

[CGD01-01-004]

RIN 2115-AA97

Safety Zone: Indian Point Nuclear Power Station, Hudson River.

AGENCY: Coast Guard, DOT.

ACTION: Notice of proposed rulemaking.

SUMMARY: The Coast Guard proposes to establish a permanent safety zone on all waters of the Hudson River within a ten mile radius of the Indian Point Nuclear Power Station (IPNPS). This action is necessary to provide for the safety of life on navigable waters during an emergency at the IPNPS. This action establishes a permanent exclusion area that is only active when requested by the Nuclear Regulatory Commission (NRC) during activation of the facility's Emergency Planning Zone, and is intended to restrict vessel traffic in a portion of the Hudson River.

DATES: Comments and related material must reach the Coast Guard on or before May 21, 2001.

ADDRESSES: You may mail comments and related material to Waterways Oversight Branch (CGD01-01-004), Coast Guard Activities New York, 212 Coast Guard Drive, room 204, Staten Island, New York 10305. The Waterways Oversight Branch of Coast Guard Activities New York maintains the public docket for this rulemaking. Comments and material received from the public, as well as documents indicated in this preamble as being available in the docket, will become part of this docket and will be available for inspection or copying at room 204, Coast Guard Activities New York, between 8 a.m. and 3 p.m., Monday through Friday, except Federal holidays.

FOR FURTHER INFORMATION CONTACT: Lieutenant M. Day, Waterways Oversight Branch, Coast Guard Activities New York (718) 354-4012.

SUPPLEMENTARY INFORMATION:

Request for Comments

We encourage you to participate in this rulemaking by submitting comments and related material. If you do so, please include your name and address, identify the docket number for this rulemaking (CGD01-00-004), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Oversight Branch at the address under ADDRESSES explaining why one would be beneficial. If we determine that one would aid this rulemaking, we will hold one at a time and place announced by a later notice in the Federal Register.

Background and Purpose

The Coast Guard proposes to establish a permanent safety zone that will be activated when requested by the NRC during activation of the IPNPS Emergency Planning Zone. The IPNPS is located in approximate position 41°16′12.4″ N 073°57′09.5″ W, about 1,600 yards south of the Peekskill Bay southern entrance channel. The safety zone encompasses all waters of the Hudson River between the Tappan Zee Bridge (mile 27.0) to the south, and latitude 41°26′35″ N at Breakneck Point to the north. The Coast Guard has established this safety zone once since 1997. During this incident, a temporary safety zone was established for 45 minutes with limited notice for preparation by the U.S. Coast Guard and no opportunity for public comment. Establishing a permanent safety zone by notice and comment rulemaking at least gives the public the opportunity to comment on the proposed zone location and size.

Discussion of Proposed Rule

The IPNPS is located south of Peekskill Bay, NY on the Hudson River. The proposed safety zone will only be enacted when requested by the NRC during activation of the IPNPS Emergency Planning Zone. The NRC will request activation of the safety zone only during a Site Area Emergency or a General Emergency. A Site Area Emergency involves actual or likely major failures of plant functions needed for the protection of the public. A General Emergency involves actual or imminent substantial core degradation or melting with potential for loss of containment integrity. This rule is being proposed to provide for the safety of life on navigable waters during these unplanned emergencies, to give the marine community the opportunity to comment on this zone, and to enable the Coast Guard to quickly assist the NRC activate their emergency plan during a radiological emergency at the IPNPS.

Generally, the plume exposure pathway for nuclear power plants shall consist of an area about 10 miles in radius as defined in 44 CFR 350. The Coast Guard determined the size of the safety zone by referring to the standard determined by State and local governments in consultation with the Federal Emergency Management Agency (FEMA) and the NRC. On May 3, 1996, FEMA reviewed and approved the State of New York Radiological Emergency Response Plan site-specific to the Indian Point Nuclear Power Generating Station, which included a 10-mile plume exposure pathway.

During activation of the safety zone, vessels shall not enter the zone and vessels within the zone shall immediately proceed out of the safety zone staying upwind of the power plant, and therefore out of the potential plume exposure area, if possible.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

This finding is based on the expected infrequency of this zone's activation as it has only been activated once in the past four years, and we will be excluding personnel from an area that they would not want to enter, or remain in, due to the possible exposure hazard.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit or anchor in a portion of the Hudson River during the times this zone is activated.

This safety zone would not have a significant economic impact on a substantial number of small entities for the following reasons: the expected infrequency of this zone's activation as it has only been activated once in the past four years, and we will be excluding personnel from an area that they would not want to enter, or remain in, due to the possible exposure hazard.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant M. Day, Waterways Oversight Branch, Coast Guard Activities New York (718) 354-4012.

Collection of Information

This proposed rule would call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

We considered the environmental impact of this proposed rule and concluded that, under figure 2-1, paragraph 34(g), of Commandant Instruction M16475.1C, this proposed rule is categorically excluded from further environmental documentation. This proposed rule fits paragraph 34(g) as it establishes a safety zone. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6 and 160.5; 49 CFR 1.46.

2. Add § 165.169 to read as follows:

§ 165.169 Safety Zone: Indian Point Nuclear Power Station (IPNPS), Hudson River.

(a) Regulated Area. The following area is a safety zone: All waters of the Hudson River between the Tappan Zee Bridge (mile 27.0) and latitude 41°26′35″ N at Breakneck Point.

(b) Effective Period. This section will only be activated during a Site Area or General Emergency at the IPNPS located south of Peekskill Bay, NY. Coast Guard Activities New York will cause notice of the activation of this safety zone to be made by all appropriate means to effect the widest publicity among the affected segments of the public, including marine information and facsimile broadcasts.

(c) Regulations. (1) The general regulations contained in 33 CFR 165.23 apply.

(2) No vessels will be allowed to enter or remain in the safety zone without the permission of the Captain of the Port, New York.

(3) Vessels located within the safety zone shall immediately proceed out of the safety zone, staying upwind of the power plant if possible.

(4) All persons and vessels shall comply with the instructions of the Coast Guard Captain of the Port or the designated on-scene patrol personnel. These personnel comprise commissioned, warrant, and petty officers of the Coast Guard. Upon being hailed by a U. S. Coast Guard vessel by siren, radio, flashing light, or other means, the operator of a vessel shall proceed as directed.

Dated: March 6, 2001.
R.E. Bennis,
Rear Admiral, U.S. Coast Guard, Captain of the Port, New York.

[FR Doc. 01-6904 Filed 3-19-01; 8:45 am]

BILLING CODE 4910-15-P